Title 3—

The President

Proclamation 8054 of September 20, 2006

Gold Star Mother's Day, 2006

By The President of the United States of America

A Proclamation

Since America's founding, every generation has produced patriots willing to sacrifice for our great Nation. Many of these proud sons and daughters have given everything for our freedom, and America has mourned the loss of every life. On Gold Star Mother's Day, we pay special tribute to the mothers of those lost while defending our country and extending the blessings of liberty to others.

Gold Star Mothers have long borne the hardships of war with dignity and devotion. Through heartbreaking loss and unimaginable grief, they continue to support each other through difficult times, stand up for those wearing the uniform of the United States, and serve their communities in the best traditions of the American spirit. Their strength, compassion, and determination are an inspiration to all and a source of great pride for our Nation.

America lives in freedom because of the sacrifices of America's finest citizens and of the mothers who raised them. In the words of President Franklin D. Roosevelt in 1944, “There is nothing adequate which anyone in any place can say to those who are entitled to display the gold star in their windows.” Each year, this observance is an opportunity to offer our solemn respect to Gold Star Mothers and renew our ongoing pledge that America will always remember those who died while wearing the uniform of the United States and forever honor their families' sacrifice.

The Congress, by Senate Joint Resolution 115 of June 23, 1936 (49 Stat. 1895 as amended), has designated the last Sunday in September as “Gold Star Mother's Day” and has authorized and requested the President to issue a proclamation in its observance. On this day, we express our deep gratitude to our Nation's Gold Star Mothers, and we ask God's blessings on them and on their families.

NOW, THEREFORE, I, GEORGE W. BUSH, President of the United States of America, do hereby proclaim Sunday, September 24, 2006, as Gold Star Mother's Day. I call upon all Government officials to display the flag of the United States over Government buildings on this solemn day. I also encourage the American people to display the flag and hold appropriate ceremonies as a public expression of our Nation's sympathy and respect for our Gold Star Mothers.

IN WITNESS WHEREOF, I have hereunto set my hand this twentieth day of September, in the year of our Lord two thousand six, and of the Independence of the United States of America the two hundred and thirty-first.

[FR Doc. 06-8286

Filed 9-25-06; 8:45 am]

Billing code 3195-01-P